DEPARTMENT OF HEALTH AND HUMAN SERVICES

Food and Drug Administration

21 CFR Part 1020

[Docket No. 01N-0275]

Electronic Products; Performance Standard for Diagnostic X-Ray Systems and Their Major Components; Correction

AGENCY: Food and Drug Administration, HHS.

ACTION: Proposed rule; correction.

SUMMARY: The Food and Drug Administration is correcting a proposed rule that appeared in the Federal Register of December 10, 2002 (67 FR 76056). The document proposed to amend the performance standard for diagnostic x-ray systems and their major components. The document was published with some inadvertent errors. This document corrects those errors.

FOR FURTHER INFORMATION CONTACT: Joyce Strong, Office of Policy (HF-27), Food and Drug Administration, 5600 Fishers Lane, Rockville, MD 20857, 301-827-7010.

SUPPLEMENTARY INFORMATION: In FR Doc. 02-30550, appearing on page 76056 in the Federal Register of Tuesday, December 10, 2002, the following corrections are made:

1. On page 76081, in the first column, in reference 29, the Internet address is corrected to read “http://www.fda.gov/cdrh/radhlth/021501_xray.html”.

2. On page 76093, in the third column, the second line of paragraph (h)(1)(ii) is corrected by removing the word “this” and adding “(h)(1)(i)” after the word “paragraph”.

Dated: December 18, 2002.
Margaret M. Dotzel,
Assistant Commissioner for Policy.

[FR Doc. 02-32441 Filed 12-24-02; 8:45 am]

BILLING CODE 4160-01-S